NUCLEAR REGULATORY COMMISSION

[Docket Nos. 50-320, 50-295, 50-304, and 72-1037; NRC-2024-0126]

Issuance of Multiple Exemptions Regarding Security Notifications, Reports, and Recordkeeping

AGENCY: Nuclear Regulatory Commission.

ACTION: Exemptions; issuance.

SUMMARY: The U.S. Nuclear Regulatory Commission (NRC) is issuing a single notice to announce the issuance of two exemptions in response to requests from two licensees. These exemptions were requested as a result of a change to NRC's regulations published in the Federal Register on March 14, 2023.

DATES: During the period from June 1, 2024, to June 30, 2024, the NRC granted two exemptions in response to requests submitted by two licensees from December 20, 2023, to December 22, 2023.

ADDRESSES: Please refer to Docket ID NRC-2024-0126 when contacting the NRC about the availability of information regarding this document. You may obtain publicly available information related to this document using any of the following methods:

• Federal Rulemaking Website: Go to https://www.regulations.gov and search for Docket ID NRC-2024-0126. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Ed Miller, Office of Nuclear Reactor Regulation, U.S. Nuclear Regulatory Commission, Washington, DC 20555-0001; telephone: 301-415-2481, email: Ed.Miller@nc.gov.

SUPPLEMENTARY INFORMATION:

I. Introduction

During the period from June 1, 2024, to June 30, 2024, the NRC granted two exemptions in response to requests submitted by the following licensees: TMI-2 Solutions; and Constellation Energy Generation, LLC.

These exemptions temporarily allow the licensee to deviate from certain requirements of part 73 of title 10 of the Code of Federal Regulations (10 CFR), “Physical Protection of Plants and Materials,” subpart T, “Security Notifications, Reports, and Recordkeeping.” In support of their exemption requests, the licensees agreed to effect site-specific administrative controls that maintain the approach to complying with 10 CFR part 73 in effect prior to the NRC's issuance of a final rule, “Enhanced Weapons, Firearms Background Checks, and Security Event Notifications,” which was published in the Federal Register on March 14, 2023, and became effective on April 13, 2023 (88 FR 15864).

II. Availability of Documents

The tables in this notice provide transparency regarding the number and type of exemptions the NRC has issued and provide the facility name, docket number, document description, document date, and ADAMS accession number for each exemption issued. Additional details on each exemption issued, including the exemption request submitted by the respective licensee and the NRC's decision, are provided in each exemption approval listed in the following tables. For additional directions on accessing information in ADAMS, see the ADDRESSES section of this document.

TMI-2 Solutions; Three Mile Island Nuclear Station, Unit 2; Docket No. 50-320
Document description | ADAMS accession No. | Document date
TMI-2 Solutions [Three Mile Island Nuclear Station, Unit 2]—Request for Exemption from Enhanced Weapons, Firearms Background Checks, and Security Event Notifications Implementation | ML23354A206 | December 20, 2023.
TMI-2 Solutions [Three Mile Island Nuclear Station, Unit 2], Supplement to Request for Exemption from Enhanced Weapons, Firearms Background Checks, and Security Event Notifications Implementation | ML24113A021 | April 18, 2024.
Three Mile Island Nuclear Station, Unit 2—Exemption from Select Requirements of 10 CFR part 73 | ML24135A197 | June 13, 2024.

Constellation Energy Generation, LLC; Zion Nuclear Power Station, Units 1 and 2 Independent Spent Fuel Storage Installation; Docket Nos. 50-295, 50-304, 72-1037
Document description | ADAMS accession No. | Document date
Constellation Energy Generation, LLC [Zion Nuclear Power Station, Units 1 and 2 Independent Spent Fuel Storage Installation]—Request for Exemption from Enhanced Weapons, Firearms Background Checks, and Security Event Notifications Implementation | ML23356A007 | December 22, 2023.
Zion Independent Spent Fuel Storage Installation—Exemption from Select Requirements of 10 CFR part 73 | ML24136A239 | June 11, 2024.

Dated: July 12, 2024.
For the Nuclear Regulatory Commission.
Yoira Diaz-Sanabria,
Chief, Storage and Transportation Licensing Branch, Division of Fuel Management, Office of Nuclear Material Safety and Safeguards.

[FR Doc. 2024-15715 Filed 7-16-24; 8:45 am]

BILLING CODE 7590-01-P